DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of Brookport, Massac County, Illinois
Docket No.: FEMA-B-7773
Illinois | City of Brookport | Ohio River | Approximately 3,680 feet downstream of U.S. Route 45 | *339
|  |  | Approximately 2,460 feet upstream of U.S. Route 45 | *339
* National Geodetic Vertical Datum.
+ North American Vertical Datum.
# Depth in feet above ground.
‸ Mean Sea Level, rounded to the nearest 0.1 meter.
ADDRESSES
City of Brookport
Maps are available for inspection at City Hall, 209 Ohio Street, Brookport, IL 62910.

Flooding source(s) | Location of referenced elevation | * Elevation in feet (NGVD) + Elevation in feet (NAVD) # Depth in feet above ground ‸ Elevation in meters (MSL) Modified | Communities affected
Boone County, Arkansas, and Incorporated Areas
Docket No.: FEMA-B-1074
Crooked Creek | Approximately 200 feet downstream of U.S. Route 65 | +1047 | Unincorporated Areas of Boone County.
| Approximately 1,300 feet upstream of Cloverhill Road | +1070
Dry Jordan Creek | Approximately 0.63 mile upstream of Goblin Drive | +1167 | Unincorporated Areas of Boone County.
| Approximately 0.64 mile upstream of Goblin Drive | +1167
Dry Jordan Tributary | Approximately 560 feet upstream of U.S. Route 65 | +1208 | Unincorporated Areas of Boone County.
| Approximately 720 feet upstream of U.S. Route 65 | +1208
* National Geodetic Vertical Datum.
+ North American Vertical Datum.
# Depth in feet above ground.
‸ Mean Sea Level, rounded to the nearest 0.1 meter.
ADDRESSES
Unincorporated Areas of Boone County
Maps are available for inspection at 100 North Main Street, Harrison, AR 72601.
Johnson County, Arkansas, and Incorporated Areas
Docket No.: FEMA-B-1074
Little Willett Branch | Just upstream of State Highway 103 | +409 | Unincorporated Areas of Johnson County.
| Approximately 200 feet upstream of State Highway 103 | +409
Sprada Creek | Approximately 1,050 feet downstream of Private Road 3477 | +391 | Unincorporated Areas of Johnson County.
| Just upstream of County Highway 3520 | +411
* National Geodetic Vertical Datum.
+ North American Vertical Datum.
# Depth in feet above ground.
‸ Mean Sea Level, rounded to the nearest 0.1 meter.
ADDRESSES
Unincorporated Areas of Johnson County
Maps are available for inspection at 705 Cline Road, Clarksville, AR 72830.
Del Norte County, California, and Incorporated Areas
Docket No.: FEMA-B-1074
Lake Earl | Entire shoreline | +13 | Unincorporated Areas of Del Norte County.
Lake Tolowa | Entire shoreline | +13 | Unincorporated Areas of Del Norte County.
Overflow Southwest of Smith River | Approximately 2,000 feet east of the intersection of Prigmore Street and Fisher Drive | +13 | Unincorporated Areas of Del Norte County.
| Approximately 500 feet west of the intersection of U.S. Route 101 and Reynolds Court | +40
Pacific Ocean | From approximately 1,420 feet north of Pyramid Point to approximately 7,870 feet south of the mouth of Lake Tolowa along the shoreline of the Pacific Ocean | +14-20 | Unincorporated Areas of Del Norte County.
| Approximately 7,000 feet north of the mouth of Lake Tolowa, just inland of the shoreline of the Pacific Ocean | #1
| Approximately 2,300 feet north of the mouth of Lake Tolowa, just inland of the shoreline of the Pacific Ocean | #2
Rowdy Creek | At the confluence with the Smith River | +25 | Unincorporated Areas of Del Norte County.
| Approximately 1,450 feet upstream of U.S. Route 101 | +64
Sheetflow Southwest of Smith River | From just downstream of U.S. Route 101 to approximately 500 feet west of Lower Lake Road between Tryon Creek and the Smith River | #2 | Unincorporated Areas of Del Norte County.
Smith River | At the mouth of the Smith River | +15 | Unincorporated Areas of Del Norte County.
| Approximately 2,100 feet upstream of U.S. Route 101 | +47
* National Geodetic Vertical Datum.
+ North American Vertical Datum.
# Depth in feet above ground.
‸ Mean Sea Level, rounded to the nearest 0.1 meter.
ADDRESSES
Unincorporated Areas of Del Norte County
Maps are available for inspection at City Hall, Public Works Department, 377 J Street, Crescent City, CA 95531.
Kauai County, Hawaii
Docket No.: FEMA-B-1064
Pacific Ocean | On the Pacific Ocean coastline, on the east side of the island, approximately 0.6 mile northeast of Kuahona Point | #1 | Kauai County.
| On the Pacific Ocean coastline, on the east side of the island, approximately 0.9 mile southeast of the intersection of Niumalu Road and Hulemalu Road | #89
| Approximately 2,075 feet southeast of the intersection of Waapa Road and Niumalu Road | #1
* National Geodetic Vertical Datum.
+ North American Vertical Datum.
# Depth in feet above ground.
‸ Mean Sea Level, rounded to the nearest 0.1 meter.
ADDRESSES
Kauai County
Maps are available for inspection at the Kauai County Public Works Department, Engineering Division, 444 Rice Street, Lihue, HI 96766.
Acadia Parish, Louisiana, and Incorporated Areas
Docket No.: FEMA-B-1035
Flooding Effects of Mermentau River | Approximately 4,126 feet upstream of the confluence of the Mermentau River and Bayou Queue de Tortue (Base Flood Elevations extend from the river edge east into the surrounding area) | +11 | Unincorporated Areas of Acadia Parish, Village of Mermentau.
| Approximately 9,450 feet upstream of the South Railroad Avenue crossing | +15
* National Geodetic Vertical Datum.
+ North American Vertical Datum.
# Depth in feet above ground.
‸ Mean Sea Level, rounded to the nearest 0.1 meter.
ADDRESSES
Unincorporated Areas of Acadia Parish
Maps are available for inspection at 568 Northeast Court Circle, Crowley, LA 70526.
Village of Mermentau
Maps are available for inspection at 104 7th Street, Mermentau, LA 70556.
Beauregard Parish, Louisiana, and Incorporated Areas
Docket No.: FEMA-B-1071
Cowpen Creek | Just downstream of Graybow Road | +174 | Unincorporated Areas of Beauregard Parish.
| Approximately 0.9 mile upstream of Sunset Lane | +196 |
Hickory Branch Creek | Approximately 0.7 mile downstream of Mays Street | +160 | City of Deridder, Unincorporated Areas of Beauregard Parish.
| Approximately 1,300 feet upstream of Park Road | +173
Palmetto Creek | Just upstream of U.S. Route 171 | +131 | City of Deridder, Unincorporated Areas of Beauregard Parish.
| Just downstream of U.S. Route 190 | +180
Unnamed Tributary of Cowpen Creek | At the confluence with Cowpen Creek | +192 | Unincorporated Areas of Beauregard Parish.
| Approximately 0.4 mile upstream of Country Lane | +192
* National Geodetic Vertical Datum.
+ North American Vertical Datum.
# Depth in feet above ground.
‸ Mean Sea Level, rounded to the nearest 0.1 meter.
ADDRESSES
Unincorporated Areas of Beauregard Parish
Maps are available for inspection at 201 West 2nd Street, Deridder, LA 70634.
City of Deridder
Maps are available for inspection at 200 South Jefferson Street, Deridder, LA 70634.
Eaton County, Michigan (All Jurisdictions)
Docket No.: FEMA-B-1061
Carrier Creek | At the confluence with Moon and Hamilton County Drain | +837 | Charter Township of Delta.
| Approximately 550 feet upstream of Grand Trunk Western Railroad | +867
Grand River | Approximately 5,490 feet upstream of the divergence from the Grand River Bypass | +875 | Township of Hamlin.
| Approximately 5,850 feet upstream of the divergence from the Grand River Bypass | +875
Miller Creek | Approximately 50 feet upstream of Willow Highway | +808 | Charter Township of Delta.
| Approximately 700 feet upstream of Ireland Drive | +851
Miller Creek Overflow Channel | Approximately 800 feet upstream of the convergence with Miller Creek | +822 | Charter Township of Delta.
| Approximately 1,760 feet upstream of the convergence with Miller Creek | +828
Moon and Hamilton County Drain | Approximately 1,900 feet upstream of Willow Highway | +812 | Charter Township of Delta.
| Approximately 4,200 feet upstream of Millett Highway | +869
* National Geodetic Vertical Datum.
+ North American Vertical Datum.
# Depth in feet above ground.
‸ Mean Sea Level, rounded to the nearest 0.1 meter.
ADDRESSES
Charter Township of Delta
Maps are available for inspection at 7710 West Saginaw Highway, Delta, MI 48917.
Township of Hamlin
Maps are available for inspection at 6463 South Clinton Trail, Eaton Rapids, MI 68827.
Lyon County, Minnesota, and Incorporated Areas
Docket No.: FEMA-B-7826
County Ditch No. 63 | Approximately 5,190 feet downstream of County Road 8 | +1150 | City of Ghent, Unincorporated Areas of Lyon County.
| Approximately 60 feet upstream of 310th Street | +1167
Meadow Creek | At the county boundary | +1122 | Unincorporated Areas of Lyon County.
| Approximately 2,735 feet upstream of County Road 7 | +1185
Meadow Creek Overflow Channel | At the confluence with Meadow Creek | +1185 | Unincorporated Areas of Lyon County.
| Approximately 340 feet upstream of State Highway 23 | +1189
Redwood River | At the county boundary | +1067 | City of Lynd, City of Marshall, City of Russell, Unincorporated Areas of Lyon County.
| Approximately 225 feet upstream of State Highway 23 | +1516
South Branch Yellow Medicine River | At the confluence with the Yellow Medicine River | +1119 | City of Minneota, Unincorporated Areas of Lyon County.
| Approximately 1,495 feet upstream of West Lyon Street | +1170
Three Mile Creek | At the confluence with the Redwood River | +1081 | Unincorporated Areas of Lyon County.
| Approximately 4,880 feet upstream of State Highway 68 | +1158
Yellow Medicine River | Approximately 3,295 feet downstream of the county boundary | +1094 | Unincorporated Areas of Lyon County.
| At Lyon Lincoln Road | +1167
* National Geodetic Vertical Datum.
+ North American Vertical Datum.
# Depth in feet above ground.
‸ Mean Sea Level, rounded to the nearest 0.1 meter.
ADDRESSES
City of Ghent
Maps are available for inspection at 107 Chapman Street, Ghent, MN 56239.
City of Lynd
Maps are available for inspection at 111 West Railroad, Lynd, MN 56157.
City of Marshall
Maps are available for inspection at 344 Main Street, Marshall, MN 56258.
City of Minneota
Maps are available for inspection at 129 East 1st Street, Minneota, MN 56264.
City of Russell
Maps are available for inspection at 106 River Street, Russell, MN 56169.
Unincorporated Areas of Lyon County
Maps are available for inspection at 607 West Main Street, Marshall, MN 56258.
Lafayette County, Mississippi, and Incorporated Areas
Docket No.: FEMA-B-1076
Burney Branch | Approximately 0.5 mile downstream of Veterans Drive | +350 | City of Oxford.
| Approximately 1,727 feet upstream of Sisk Avenue | +454
Davidson Creek | Approximately 0.4 mile downstream of College Hill Road | +355 | City of Oxford.
| Approximately 1,444 feet downstream of College Hill Road | +359
Enid Lake/Yocona River | Just downstream of County Road 387 | +274 | Unincorporated Areas of Lafayette County.
| Approximately 1 mile downstream of Mississippi Highway 315 | +274
* National Geodetic Vertical Datum.
+ North American Vertical Datum.
# Depth in feet above ground.
‸ Mean Sea Level, rounded to the nearest 0.1 meter.
ADDRESSES
Unincorporated Areas of Lafayette County
Maps are available for inspection at the Lafayette County Courthouse, 1 Courthouse Square, Oxford, MS 38655.
City of Oxford
Maps are available for inspection at City Hall, 107 Courthouse Square, Oxford, MS 38655.
Lafayette County, Missouri, and Incorporated Areas
Docket No.: FEMA-B-1075
Missouri River | Approximately at U.S. Route 24 | +677 | City of Waverly.
| Approximately 1,100 feet upstream of U.S. Route 24 | +678
Missouri River | Approximately 10 miles upstream of U.S. Route 24 | +684 | City of Lexington, City of Napoleon, City of Wellington, Unincorporated Areas of Lafayette County.
| Approximately 0.5 mile downstream of the Jackson County boundary | +709
* National Geodetic Vertical Datum.
+ North American Vertical Datum.
# Depth in feet above ground.
‸ Mean Sea Level, rounded to the nearest 0.1 meter.
ADDRESSES
Unincorporated Areas of Lafayette County
Maps are available for inspection at 1001 Main Street, Lexington, MO 64067.
City of Lexington
Maps are available for inspection at 919 Franklin Street, Lexington, MO 64067.
City of Napoleon
Maps are available for inspection at 191 West 2nd Street, Napoleon, MO 64074.
City of Waverly
Maps are available for inspection at 111 East Kelling Avenue, Waverly, MO 64096.
City of Wellington
Maps are available for inspection at 101 East 4th Street, Wellington, MO 64097.
Newton County, Missouri, and Incorporated Areas
Docket No.: FEMA-B-1075
Shoal Creek | Approximately 400 feet upstream of the Town of Grand Falls Plaza corporate limits | +887 | Village of Grand Fall Plaza.
Shoal Creek | Approximately 75 feet downstream of the Village of Shoal Creek Estates corporate limits | +898 | Village of Shoal Creek Drive.
| Approximately 175 feet upstream of the Village of Shoal Creek Drive corporate limits | +903
Shoal Creek | Approximately 150 feet downstream of the Village of Cliff Village corporate limits | +906 | Village of Cliff Village.
Shoal Creek | Approximately 75 feet downstream of the Village of Shoal Creek Estates corporate limits | +915 | Village of Shoal Creek Estates.
South Indian Creek | Approximately 300 feet downstream of Ozark Street | +1119 | City of Stella.
| Approximately 150 feet upstream of Ozark Street | +1122
* National Geodetic Vertical Datum.
+ North American Vertical Datum.
# Depth in feet above ground.
‸ Mean Sea Level, rounded to the nearest 0.1 meter.
ADDRESSES
City of Stella
Maps are available for inspection at 744 Ozark Street, Stella, MO 64867.
Village of Cliff Village
Maps are available for inspection at 202 West Brook Street, Neosho, MO 64850.
Village of Grand Falls Plaza
Maps are available for inspection at 202 West Brook Street, Neosho, MO 64850.
Village of Shoal Creek Drive
Maps are available for inspection at 202 West Brook Street, Neosho, MO 64850.
Village of Shoal Creek Estates
Maps are available for inspection at 202 West Brook Street, Neosho, MO 64850.
Buffalo County, Nebraska, and Incorporated Areas
Docket No.: FEMA-B-1061
Airport Draw | At the confluence with the Wood River | +2119 | City of Kearney, Unincorporated Areas of Buffalo County.
| Just downstream of East 56th Street | +2179
Glenwood Park Creek | At the confluence with the Wood River | +2140 | City of Kearney, Unincorporated Areas of Buffalo County.
| Just downstream of West 39th Street | +2229
Kearney Canal | Approximately 1.0 mile above Cottonmill Avenue | +2220 | City of Kearney.
North Channel Platte River (eastern portion of stream, eastern side of City of Kearney) | Approximately 0.9 mile downstream of County Highway 36 (Cherry Avenue) | +2114 | City of Kearney.
| Approximately 200 feet downstream of County Highway 36 (Cherry Avenue) | +2118
North Channel Platte River (western portion of stream, west of City of Kearney) | Approximately 0.5 mile downstream of 62nd Avenue | +2165 | City of Kearney.
| Just downstream of 62nd Avenue | +2169
Platte River (eastern portion of stream, southeast of City of Kearney) | Approximately 2.9 miles downstream of State Highway 44 | +2122 | City of Kearney.
| Approximately 2.1 miles downstream of State Highway 44 | +2128
Platte River (western portion of stream, southwest of City of Kearney) | Approximately 2.1 miles upstream of State Highway 44 | +2157 | City of Kearney, Unincorporated Areas of Buffalo County.
| Approximately 3.3 miles upstream of State Highway 44 | +2165
Shallow flooding from North Dry Creek Ditch | Approximately 0.6 mile upstream of the confluence with the Platte River | +2155 | City of Kearney.
| Approximately 1.2 mile upstream of the confluence with the Platte River | +2156
Wood River | Approximately 2.0 miles downstream of Imperial Avenue | +2113 | Unincorporated Areas of Buffalo County.
| Approximately 0.4 mile upstream of State Highway 10 | +2146
* National Geodetic Vertical Datum.
+ North American Vertical Datum.
# Depth in feet above ground.
‸ Mean Sea Level, rounded to the nearest 0.1 meter.
ADDRESSES
Unincorporated Areas of Buffalo County
Maps are available for inspection at 1512 Central Avenue, Kearney, NE 68847.
City of Kearney
Maps are available for inspection at 18 East 22nd Street, Kearney, NE 68847.
Cass County, Nebraska, and Incorporated Areas
Docket No: FEMA-B-1080
Missouri River | Approximately 1.54 miles southeast of Eaton Lane | +943 | City of Plattsmouth, Unincorporated Areas of Cass County.
| Approximately 2.61 miles downstream of I-75 | +969
Platte River | Approximately 2.61 miles downstream of I-75 | +969 | City of Plattsmouth, Unincorporated Areas of Cass County, Village of Cedar Creek, Village of Louisville, Village of South Bend.
| Approximately 1.74 miles upstream of I-80 | +1061
Weeping Water Creek | Approximately 0.53 mile downstream of 48th Street | +993 | Village of Nehawka.
| Approximately 0.49 mile upstream of 48th Street | +998
Weeping Water Creek | Just upstream of Scenic Road | +1061 | City of Weeping Water, Unincorporated Areas of Cass County.
| Approximately 0.53 mile downstream of State Highway 50 | +1094
| Approximately 215 feet upstream of State Highway 50 | +1111
* National Geodetic Vertical Datum.
+ North American Vertical Datum.
# Depth in feet above ground.
‸ Mean Sea Level, rounded to the nearest 0.1 meter.
ADDRESSES
Unincorporated Areas of Cass County
Maps are available for inspection at the Cass County Courthouse, 346 Main Street, Plattsmouth, NE 68048.
City of Plattsmouth
Maps are available for inspection at City Hall, 136 North 5th Street, Plattsmouth, NE 68048.
City of Weeping Water
Maps are available for inspection at City Hall, 203 West Eldora, Weeping Water, NE 68463.
Village of Cedar Creek
Maps are available for inspection at the Village Office, 200 East B Street, Cedar Creek, NE 68016.
Village of Louisville
Maps are available for inspection at City Hall, 210 Main Street, Louisville, NE 68037.
Village of Nehawka
Maps are available for inspection at the Village Office, 713 Elm Street, Nehawka, NE 68413.
Village of South Bend
Maps are available for inspection at the Village Hall, 300 Spruce Street, South Bend, NE 68058.
Chenango County, New York (All Jurisdictions)
Docket No.: FEMA-B-1076
Canasawacta Creek | At the confluence with the Chenango River | +990 | City of Norwich, Town of Norwich.
| Approximately 825 feet upstream of the confluence with the Chenango River | +990
Chenango River | At the downstream county boundary | +899 | City of Norwich, Town of Greene, Town of North Norwich, Town of Oxford, Town of Preston, Town of Sherburne, Town of Smyrna, Village of Earlville, Village of Greene, Village of Oxford, Village of Sherburne.
| At the upstream county boundary | +1074
Kelsey Brook | At the confluence with the Susquehanna River | +972 | Village of Afton.
| Approximately 995 feet upstream of Main Street (State Route 7) | +972
Susquehanna River | At the downstream county boundary | +965 | Town of Afton, Town of Bainbridge, Village of Afton, Village of Bainbridge.
| At the upstream county boundary | +987
Unadilla River | At the confluence with the Susquehanna River | +987 | Town of Bainbridge, Town of Guilford, Town of New Berlin, Town of Norwich, Village of New Berlin.
| Approximately 1.7 mile upstream of State Route 80 | +1101
* National Geodetic Vertical Datum.
+ North American Vertical Datum.
# Depth in feet above ground.
‸ Mean Sea Level, rounded to the nearest 0.1 meter.
ADDRESSES
City of Norwich
Maps are available for inspection at City Hall, 1 City Plaza, Norwich, NY 13814.
Town of Afton
Maps are available for inspection at the Afton Town Hall, 169 Main Street, Afton, NY 13730.
Town of Bainbridge
Maps are available for inspection at the Bainbridge Town Hall, 15 North Main Street, Bainbridge, NY 13733.
Town of Greene
Maps are available for inspection at the Greene Town Hall, 51 Genesee Street, Greene, NY 13778.
Town of Guilford
Maps are available for inspection at the Town Hall, 223 Marble Road, Guilford, NY 13780.
Town of New Berlin
Maps are available for inspection at the New Berlin Town Hall, 30 North Main Street, New Berlin, NY 13411.
Town of North Norwich
Maps are available for inspection at the Town Hall, 188 County Road 23, North Norwich, NY 13814.
Town of Norwich
Maps are available for inspection at the Norwich Town Hall, 157 County Road 32A, Norwich, NY 13815.
Town of Oxford
Maps are available for inspection at the Oxford Town Hall, 20 Lafayette Park, Oxford, NY 13830.
Town of Preston
Maps are available for inspection at the Preston Town Barn, 671 Tamarack Road, Oxford, NY 13830.
Town of Sherburne
Maps are available for inspection at the Sherburne Town Hall, 1 Canal Street, Sherburne, NY 13460.
Town of Smyrna
Maps are available for inspection at the Town Clerk's Office, 1893 State Route 80, Smyrna, NY 13464.
Village of Afton
Maps are available for inspection at the Afton Village Hall, 105 Main Street, Afton, NY 13730.
Village of Bainbridge
Maps are available for inspection at the Bainbridge Village Office, 33 West Main Street, Bainbridge, NY 13733.
Village of Earlville
Maps are available for inspection at the Village Hall, 8 North Main Street, Earlville, NY 13332.
Village of Greene
Maps are available for inspection at the Greene Village Hall, 49 Genesee Street, Greene, NY 13778.
Village of New Berlin
Maps are available for inspection at the New Berlin Village Hall, 13 South Main Street, New Berlin, NY 13411.
Village of Oxford
Maps are available for inspection at the Oxford Village Hall, 20 Lafayette Park, Oxford, NY 13830.
Village of Sherburne
Maps are available for inspection at the Sherburne Village Hall, 15 West State Street, Sherburne, NY 13460.
Adair County, Oklahoma, and Incorporated Areas
Docket No.: FEMA-B-1068
8th Street Tributary | At the confluence with Caney Creek | +1055 | City of Stillwell, Unincorporated Areas of Adair County.
| Just downstream of 8th Street | +1069
Caney Creek | Approximately 1,926 feet downstream of the 4696 Road | +977 | City of Stillwell, Unincorporated Areas of Adair County.
| Just upstream of Oklahoma Street | +1118
* National Geodetic Vertical Datum.
+ North American Vertical Datum.
# Depth in feet above ground.
‸ Mean Sea Level, rounded to the nearest 0.1 meter.
ADDRESSES
Unincorporated Areas of Adair County
Maps are available for inspection at the Adair County Commissioners Office, 2nd and Division Street, Stillwell, OK 74960.
City of Stillwell
Maps are available for inspection at the City Clerk's Office, 503 West Division Street, Stillwell, OK 74960.
Columbia County, Oregon, and Incorporated Areas
Docket No.: FEMA-B-1075
Nehalem River | Approximately 0.29 mile upstream of the State Highway 47 Bridge | +613 | City of Vernonia, Unincorporated Areas of Columbia County.
| Approximately 0.46 mile downstream of Sword Place | +623
Rock Creek | At the confluence with the Nehalem River | +620 | City of Vernonia, Unincorporated Areas of Columbia County.
| Approximately 0.72 mile upstream of Bridge Street | +622
Rock Creek Overbank | At the confluence with Rock Creek | +617 | City of Vernonia.
| Approximately 400 feet upstream of Washington Avenue | +621
* National Geodetic Vertical Datum.
+ North American Vertical Datum.
# Depth in feet above ground.
‸ Mean Sea Level, rounded to the nearest 0.1 meter.
ADDRESSES
Unincorporated Areas of Columbia County
Maps are available for inspection at 230 Strand Street, St. Helens, OR 97051.
City of Vernonia
Maps are available for inspection at 1001 Bridge Street, Vernonia, OR 97064.
Bledsoe County, Tennessee, and Incorporated Areas
Docket No.: FEMA-B-1060
Sequatchie River | Approximately 1,200 feet downstream of State Route 30 | +819 | Unincorporated Areas of Bledsoe County.
| Approximately 2,745 feet downstream of Upper East Valley Road | +825
* National Geodetic Vertical Datum.
+ North American Vertical Datum.
# Depth in feet above ground.
‸ Mean Sea Level, rounded to the nearest 0.1 meter.
ADDRESSES
Unincorporated Areas of Bledsoe County
Maps are available for inspection at 3031 Main Street, Suite 600, Pikeville, TN 37367.
Lavaca County, Texas, and Incorporated Areas
Docket No.: FEMA-B-1069
Lavaca River | At the confluence with Rickaway Branch | +213 | Unincorporated Areas of Lavaca County.
| Approximately 300 feet downstream of the confluence with Campbell Branch | +229
Rickaway Branch | Approximately 2,500 feet upstream of the confluence with the Lavaca River | +213 | Unincorporated Areas of Lavaca County.
| Approximately 0.66 mile upstream of Cemetery Road | +239
* National Geodetic Vertical Datum.
+ North American Vertical Datum.
# Depth in feet above ground.
‸ Mean Sea Level, rounded to the nearest 0.1 meter.
ADDRESSES
Unincorporated Areas of Lavaca County
Maps are available for inspection at 201 North La Grange, Hallettsville, TX 77964.
Wilson County, Texas, and Incorporated Areas
Docket No.: FEMA-B-1032
Cibolo Creek | Approximately 2,000 feet downstream of County Road 345 | +486 | Unincorporated Areas of Wilson County.
| Approximately 995 feet downstream of County Road A | +496
Lodi Branch | Approximately 373 feet upstream of 1st Street | +393 | Unincorporated Areas of Wilson County.
| Approximately 1,290 feet downstream of State Highway 97 West | +407
Picosa Creek | Approximately 6,036 feet downstream of State Highway 97 West | +373 | Unincorporated Areas of Wilson County.
| Approximately 6,700 feet downstream of Pleasanton Road | +378
San Antonio River | Approximately 1,327 feet downstream of the confluence with Pajarito Creek | +373 | Unincorporated Areas of Wilson County
| At the confluence with Tributary 320 | +390
Stream 2 | At the confluence with the San Antonio River | +373 | Unincorporated Areas of Wilson County.
| Approximately 1,220 feet downstream of State Highway 97 West | +373
* National Geodetic Vertical Datum.
+ North American Vertical Datum.
# Depth in feet above ground.
‸ Mean Sea Level, rounded to the nearest 0.1 meter.
ADDRESSES
Unincorporated Areas of Wilson County
Maps are available for inspection at 1430 3rd Street, Floresville, TX 78114

(Catalog of Federal Domestic Assistance No. 97.022, “Flood Insurance.”)

Dated: October 29, 2010.
Sandra K. Knight,
Deputy Federal Insurance and Mitigation Administrator, Mitigation, Department of Homeland Security, Federal Emergency Management Agency.

[FR Doc. 2010-28835 Filed 11-15-10; 8:45 am]

BILLING CODE 9110-12-P